DEPARTMENT OF TRANSPORTATION

Federal Aviation Administration

14 CFR Part 39

[Docket No. FAA-2014-0254; Directorate Identifier 2013-NM-047-AD]

RIN 2120-AA64

Airworthiness Directives; Beechcraft Corporation (Type Certificate Previously Held by Hawker Beechcraft Corporation; Raytheon Aircraft Company) Airplanes

AGENCY: Federal Aviation Administration (FAA), DOT.

ACTION: Notice of proposed rulemaking (NPRM).

SUMMARY: We propose to adopt a new airworthiness directive (AD) for certain Beechcraft Corporation (Type Certificate Previously Held by Hawker Beechcraft Corporation; Raytheon Aircraft Company) Model Hawker 800XP, 850XP, and 900XP airplanes. This proposed AD was prompted by a design review that revealed there were no instructions to apply sealant to structural components in the fuel tank during the winglet installation process. This proposed AD would require an inspection for the presence of sealant on doubler plate edges, doubler plate rivets, and adjacent skin in the fuel vent surge tanks; and corrective actions if necessary. We are proposing this AD to detect and correct missing sealant, which, during a lightning strike, could result in a potential source of ignition in a fuel tank and consequent explosion or fire and subsequent in-flight breakup of the airplane.

DATES: We must receive comments on this proposed AD by June 9, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Beechcraft Corporation, TMDC, P.O. Box 85, Wichita, KS 67201-0085; telephone 316-676-8238; fax 316-671-2540; email tmdc@beechcraft.com; Internet http://pubs.beechcraft.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0254; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Jeffrey Englert, Aerospace Engineer, Mechanical Systems and Propulsion Branch, ACE-116W, FAA, Wichita Aircraft Certification Office, 1801 Airport Road, Room 100, Mid-Continent Airport, Wichita, KS 67209; phone: (316) 946-4167; fax: (316) 946-4107; email: jeffrey.englert@faa.gov.

SUPPLEMENTARY INFORMATION:

Comments Invited

We invite you to send any written relevant data, views, or arguments about this proposal. Send your comments to an address listed under the ADDRESSES section. Include “Docket No. FAA-2014-0254; Directorate Identifier 2013-NM-047-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We found during a design review that included the winglet kit that there were no instructions to apply sealant to structural components in the fuel tank during the winglet installation process. The sealant is part of the lightning protection design for the fuel tanks. Missing sealant, if not detected and corrected, could result in a potential source of ignition in a fuel tank during a lightning strike and consequent explosion or fire and subsequent in-flight breakup of the airplane.

Relevant Service Information

We reviewed Hawker Beechcraft Mandatory Service Bulletin SB 57-4112, dated February 2013. The service information describes procedures for inspecting for the presence of sealant on doubler plate edges, doubler plate rivets, and adjacent skin in the top and bottom of the left and right fuel vent surge tanks; and applying sealant if necessary.

FAA's Determination

We are proposing this AD because we evaluated all the relevant information and determined the unsafe condition described previously is likely to exist or develop in other products of the same type design.

Proposed AD Requirements

This proposed AD would require accomplishing the actions specified in the service information described previously, except as discussed under “Differences Between the Proposed AD and the Service Information.”

Differences Between This Proposed AD and the Service Information

The service information identifies Model 800XP and 850XP airplanes equipped with certain kits, but does not specify the serial numbers of Model 800XP and 850XP airplanes that are eligible to have those kits installed. We have listed those serial numbers in paragraph (g) of this proposed AD.

The service information refers only to an “inspection” to determine the presence of sealant. We have determined that the inspection should be described as a “general visual inspection.” We have defined this type of inspection in paragraph (h) of this proposed AD.

The service information includes a note in the Accomplishment Instructions to inform operators to contact Hawker Beechcraft “should any difficulty be encountered” in accomplishing the service information. We have clarified in paragraph (i) of this proposed AD that any deviation from the instructions provided in the service information must be approved as an alternative method of compliance under the provisions of paragraph (k) of this proposed AD.

Costs of Compliance

We estimate that this proposed AD affects 50 airplanes of U.S. registry.

We estimate the following costs to comply with this proposed AD:

Estimated Costs
Action | Labor cost | Parts cost | Cost per Product | Cost on U.S. operators
Inspection | 2 work-hours × $85 per hour = $170 | None | $170 | $8,500

We estimate the following costs to do any necessary repairs that would be required based on the results of the proposed inspection. We have no way of determining the number of aircraft that might need these repairs:

On-Condition Costs
Action | Labor cost | Parts cost | Cost per product
Sealant application | 36 work-hours × $85 per hour = $3,060 | $32 | $3,092

According to the manufacturer, all of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Beechcraft Corporation (Type Certificate Previously Held by Hawker Beechcraft Corporation; Raytheon Aircraft Company): Docket No. FAA-2014-0254; Directorate Identifier 2013-NM-047-AD.

(a) Comments Due Date

We must receive comments by June 9, 2014.

(b) Affected ADs

None.

(c) Applicability

This AD applies to Beechcraft Corporation (Type Certificate previously held by Hawker Beechcraft Corporation; Raytheon Aircraft Company) Model Hawker 800XP, 850XP, and 900XP airplanes, certificated in any category, all serial numbers.

(d) Subject

Air Transport Association (ATA) of America Code 28, Fuel.

(e) Unsafe Condition

This AD was prompted by a design review that revealed there were no instructions to apply sealant to structural components in the fuel tank during the winglet installation process. We are issuing this AD to detect and correct missing sealant, which, during a lightning strike, could result in a potential source of ignition in a fuel tank and consequent explosion or fire and subsequent in-flight breakup of the airplane.

(f) Compliance

Comply with this AD within the compliance times specified, unless already done.

(g) Inspection and Corrective Action

For airplanes identified in paragraphs (g)(1), (g)(2), and (g)(3) of this AD: Within 600 flight hours or 12 months after the effective date of this AD, whichever occurs first, do a general visual inspection for the presence of sealant on doubler plate edges, doubler plate rivets, and adjacent skin in the top and bottom of the left and right fuel vent surge tanks, and do all applicable corrective actions, in accordance with the Accomplishment Instructions of Hawker Beechcraft Mandatory Service Bulletin SB 57-4112, dated February 2013, except as required by paragraph (i) of this AD. Do all applicable corrective actions before further flight.

(1) Beechcraft Corporation (Type Certificate previously held by Hawker Beechcraft Corporation; Raytheon Aircraft Company) Model Hawker 800XP airplanes, serial numbers 258324, 258326 through 258332 inclusive, 258334 through 258340 inclusive, 258342 through 258347 inclusive, 258349 through 258359 inclusive, 258361 through 258369 inclusive, 258371 through 258380 inclusive, 258382 through 258406 inclusive, 258408 through 258426 inclusive, 258428 through 258444 inclusive, 258446 through 258468 inclusive, 258470 through 258492 inclusive, 258494 through 258512 inclusive, 258514 through 258532 inclusive, 258534 through 258540 inclusive, 258542 through 258555 inclusive, 258557 through 258566 inclusive, 258278, 258541, 258556, 258567 through 258609 inclusive, 258611 through 258628 inclusive, 258630 through 258684 inclusive, 258686 through 258734 inclusive, 258736 through 258788 inclusive, 258795, 258802, 258821, 258825, 258829, 258834, 258840, and 258847; equipped with a kit numbered 140-1701-1, 140-1702-1, 140-1703-1,140-1703-5, 140-1703-7, or 140-1704-1 that was purchased from Hawker Beechcraft on or before February 13, 2013.

(2) Beechcraft Corporation (Type Certificate previously held by Hawker Beechcraft Corporation; Raytheon Aircraft Company) Model Hawker 850XP airplanes having serial numbers 258789 through 258794 inclusive, 258796, 258798 through 258801 inclusive, 258803 through 258819 inclusive, 258822, 258823, 258826 through 258828 inclusive, 258830 through 258833 inclusive, 258835 through 258838 inclusive, 258841, 258844, 258845, 258848, 258852, 258855, 258856, 258858, 258859, 258861, 258872, 258874, 258876, 258891, 258893, 258895, 258900, 258901, 258904, 258907, 258909, 258912, 258915, 258921, 258959, 258961, 258963, 258977, 258980, 258982, and subsequent serial numbers; equipped with a kit numbered 140-1701-1, 140-1702-1, 140-1703-1, 140-1703-5, 140-1703-7, or 140-1704-1 that was purchased on or before February 13, 2013.

(3) Beechcraft Corporation (Type Certificate previously held by Hawker Beechcraft Corporation; Raytheon Aircraft Company) Model Hawker 900XP airplanes, having serial numbers HA-0156 and HA-0159.

(h) Definition

For the purposes of this AD, a general visual inspection is a visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.

(i) Exception to the Service Information

A note in the Accomplishment Instructions of the Hawker Beechcraft Mandatory Service Bulletin SB 57-4112, dated February 2013, instructs operators to contact Hawker Beechcraft if any difficulty is encountered in accomplishing the service information. However, this AD requires that any deviation from the instructions provided in Hawker Beechcraft Mandatory Service Bulletin SB 57-4112, dated February 2013, must be approved as an alternative method of compliance (AMOC) under the provisions of paragraph (k) of this AD.

(j) Parts Installation Limitation

For all airplanes: As of the effective date of this AD, no kit having kit number 140-1701-1, 140-1702-1, 140-1703-1, 140-1703-5, 140-1703-7, or 140-1704-1 that was purchased before February 13, 2013, may be installed on any airplane unless the installation includes sealant on doubler plate edges, doubler plate rivets, and adjacent skin in the top and bottom of the left and right fuel vent surge tanks, as specified in the Accomplishment Instructions of Hawker Beechcraft Mandatory Service Bulletin SB 57-4112, dated February 2013.

(k) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(l) Related Information

(1) For more information about this AD, contact Jeffrey Englert, Aerospace Engineer, Mechanical Systems and Propulsion Branch, ACE-116W, FAA, Wichita Aircraft Certification Office, 1801 Airport Road, Room 100, Mid-Continent Airport, Wichita, KS 67209; phone: (316) 946-4167; fax: (316) 946-4107; email: jeffrey.englert@faa.gov.

(2) For service information identified in this AD, contact Beechcraft Corporation, TMDC, P.O. Box 85, Wichita, KS 67201-0085; telephone 316-676-8238; fax 316-671-2540; email tmdc@beechcraft.com; Internet http://pubs.beechcraft.com. You may view this referenced service information at the FAA, Transport Airplane Directorate, 1601 Lind Avenue SW., Renton, WA. For information on the availability of this material at the FAA, call 425-227-1221.

Issued in Renton, Washington, on April 17, 2014.
Jeffrey E. Duven,
Manager, Transport Airplane Directorate, Aircraft Certification Service.

[FR Doc. 2014-09311 Filed 4-23-14; 8:45 am]

BILLING CODE 4910-13-P